DEPARTMENT OF ENERGY

Federal Energy Regulatory Commission

[Docket No. EC01-129-000, et al.]

Caledonia Generating, LLC, et al.; Electric Rate and Corporate Regulation Filings

July 25, 2001.

Take notice that the following filings have been made with the Commission:

1. Caledonia Generating, LLC

[Docket Nos. EC01-129-000 and ER01-1383-001]

Take notice that on July 19, 2001, Caledonia Generating, LLC (Caledonia) tendered for filing an application under section 203 of the Federal Power Act for approval of, and notice of change in status with respect to, the transfer of a 50 percent non-managing membership interest in Caledonia to General Electric Capital Corporation (GECC). Caledonia is a limited liability company organized for the purpose of developing, owning, and operating an approximately 813 MW electric generation facility located near Caledonia, Mississippi. This application also reports the transaction as a change in status regarding Caledonia's market-based rate tariff insofar as Caledonia will become a non-controlled affiliate of GECC as a result of the transfer of interest.

Comment date: August 9, 2001, in accordance with Standard Paragraph E at the end of this notice.

2. Combined Locks Energy Center, LLC

[Docket No. EG01-265-000]

Take notice that on July 23, 2001, Combined Locks Energy Center, LLC (CLEC) filed an Application for Determination of Exempt Wholesale Generator Status (Application) pursuant to section 32(a)(1) of the Public Utilities Holding Company Act of 1935 (PUHCA), all as more fully explained in the Application.

CLEC will own and operate a 50 MW cogeneration facility located in Combined Locks, Wisconsin, which will be the Eligible Facility for purposes of PUHCA. CLEC has served this filing on Public Service Commission of Wisconsin and the Securities and Exchange Commission.

Comment date: August 23, 2001, in accordance with Standard Paragraph E at the end of this notice. The Commission will limit its consideration of comments to those that concern the adequacy or accuracy of the application.

3. ONEOK Power Marketing Company

[Docket No. EG01-266-000]

On July 23, 2001, ONEOK Power Marketing Company 1600 ONEOK Plaza, 100 West 5th, Tulsa, OK 74103, filed with the Federal Energy Regulatory Commission an application for determination of exempt wholesale generator status pursuant to part 365 of the Commission's regulations. The applicant is constructing an electrical generating facility titled “Spring Creek.” ONEOK owns all of the capacity and power of the Spring Creek facility. The Spring Creek plant is located north of Oklahoma City, in Logan County, Oklahoma. It consists of four (4) General Electric 7EA gas turbines each capable of generating 84.5 Mw at ISO conditions. Spring Creek will be an eligible facility within the meaning of section 32(a)(2) of PUHCA. The net electric generation of the facility will be exclusively at wholesale.

Comment date: August 13, 2001, in accordance with Standard Paragraph E at the end of this notice. The Commission will limit its consideration of comments to those that concern the adequacy or accuracy of the application.

4. Enova Energy, Inc.

[Docket No. ER96-2372-018]

Take notice that Sempra Energy Solutions on July 23, 2001, tendered for filing an updated market power analysis pursuant to the order of the Commission in this docket proceeding.

Sempra Energy Solutions, formerly known as Enova Energy, Inc., is a provider of energy services, including energy information, energy commodity, energy efficiency, and energy facility management. The updated market power analysis is required by the Commission's prior order accepting for filing the proposed market-based rates of Enova Energy, Inc.

Comment date: August 13, 2001, in accordance with Standard Paragraph E at the end of this notice.

5. Delmarva Power & Light Company

[Docket No. ER01-209-001]

Take notice that Delmarva Power & Light Company, on July 20, 2001, tendered for filing revised rate schedules between Delmarva and each of the Delaware Cities of Lewes, Milford, Newark, and New Castle and the Delaware Towns of Middletown, Clayton, and Smryna (collectively, the Municipalities). Delmarva also tendered for filing a revised rate schedule between Delmarva and the Delaware Municipal Electric Corporation (DEMEC). Delmarva requests that the Commission waive its notice of filing requirements to allow all of the revised rate schedules to become effective retroactively as of January 1, 2000 because the revisions provide for reductions in the charges to the customers.

Copies of the filing were served upon the public utility's jurisdictional customers and the Delaware Public Service Commission.

Comment date: August 10, 2001, in accordance with Standard Paragraph E at the end of this notice.

6. PacifiCorp

[Docket No. ER01-1152-002]

Take notice that PacifiCorp on July 23, 2001, tendered for filing an amendment to its January 30, 2001 filing of a revised Exhibit C to the contract for Interconnections and Transmission Service between PacifiCorp and Western Area Power Administration (Western), Contract No. 14-06-400-2436, Supplement No. 2 (PacifiCorp's Rate Schedule FERC No. 262). The revisions modify the rates charged to Western for Block 2 transmission service. Copies of this filing were supplied to the Washington Utilities and Transportation Commission and the Public Utility Commission of Oregon.

PacifiCorp has requested an effective date of April 1, 2001.

Comment date: August 13, 2001, in accordance with Standard Paragraph E at the end of this notice.

7. American Transmission Company LLC

[Docket No. ER01-2617-001]

Take notice that on July 19, 2001, American Transmission Company LLC (ATCLLC) tendered for filing amended Firm and Non-Firm Point-to-Point Service Agreements between ATCLLC and Ameren Energy Marketing Company ATCLLC requests an effective date of July 11, 2001.

Comment date: August 9, 2001, in accordance with Standard Paragraph E at the end of this notice.

8. Wisconsin Electric Power Company

[Docket No. ER01-2648-000]

Take notice that on July 23, 2001, Wisconsin Electric Power Company (Wisconsin Electric) tendered for filing a notification indicating its consent to the assignment of rights and obligations under an electric service agreement for its Market Rate Tariff (FERC Electric Tariff, Original Volume No. 8) as requested by the customer. Wisconsin Electric respectfully requests effective July 1, 2001, Service Agreement No. 12 with Commonwealth Edison Company is assigned to Exelon Generation Company, LLC (ExGen).

Wisconsin Electric requests waiver of any applicable regulation to allow for the effective date as requested above. Copies of the filing have been served on ExGen, the Michigan Public Service Commission, and the Public Service Commission of Wisconsin.

Comment date: August 13, 2001, in accordance with Standard Paragraph E at the end of this notice.

9. Allegheny Energy Service Corporation on behalf of Allegheny Energy Supply Company, LLC

[Docket No. ER01-2649-000]

Take notice that on July 23, 2001, Allegheny Energy Service Corporation on behalf of Allegheny Energy Supply Company, LLC (Allegheny Energy Supply) filed Service Agreement No. 137 to add one (1) new Customer to the Market RateTariff under which Allegheny Energy Supply offers generation services. Allegheny Energy Supply requests a waiver of notice requirements for an effective date of June 26, 2001 for Orion Power MidWest, L.P. Copies of the filing have been provided to the Public Utilities Commission of Ohio, the Pennsylvania Public Utility Commission, the Maryland Public Service Commission, the Virginia State Corporation Commission, the West Virginia Public Service Commission, and all parties of record.

Comment date: August 13, 2001, in accordance with Standard Paragraph E at the end of this notice.

10. Southern California Edison Company

[Docket No. ER01-2650-000]

Take notice, that on July 23, 2001, Southern California Edison Company (SCE) tendered for filing a Service Agreement For Wholesale Distribution Service under SCE's Wholesale Distribution Access Tariff and an Interconnection Facilities Agreement between SCE and the City of Colton, California (Colton). These agreements specify the terms and conditions pursuant to which SCE will interconnect and provide wholesale Distribution Service to Colton for up to 80 MW of generation produced by combustion turbines owned by Alliance Colton, LLC (Alliance) and connected to Colton's Drews and Century Substations. SCE requests that these agreements become effective on July 24, 2001.

Copies of this filing were served upon the Public Utilities Commission of the State of California and Colton.

Comment date: August 13, 2001, in accordance with Standard Paragraph E at the end of this notice.

11. Metropolitan Edison Company

[Docket No. ER01-2651-000]

Take notice that on July 23, 2001, Metropolitan Edison Company (doing business as GPU Energy) submitted for filing an amendment to the Generation Facility Transmission Interconnection Agreement between GPU Energy and AES Ironwood, L.L.C.

Comment date: August 13, 2001, in accordance with Standard Paragraph E at the end of this notice.

12. Arizona Independent Scheduling Administrator Association

[Docket No. ER01-2652-000]

Take notice that on July 23, 2001, the Arizona Independent Scheduling Administrator Association (Arizona ISA), tendered for filing pursuant to section 205 of the Federal Power Act a revised version of Original Service Agreement No. 4, the Agreement By And Among Arizona Independent Scheduling Administrator Association, Scheduling Coordinators And Tucson Electric Power Company (Agreement).

The revisions reformat the Agreement so that it complies with the requirements of Order No. 614, and adds a signature page executed by Tucson Electric Power Company. There are no changes to the substantive provisions of the document. The Arizona ISA requests that the Commission make the revisions to the Agreement effective as of July 10, 2001.

Comment date: August 13, 2001, in accordance with Standard Paragraph E at the end of this notice.

13. Deseret Generation & Transmission Co-operative

[Docket No. ER01-2653-000]

Take notice that Deseret Generation & Transmission Co-operative, Inc. (Deseret) on July 23, 2001, tendered for filing two (2) executed umbrella service agreements with Calpine Energy Services, LP (Calpine) pursuant to Deseret's open access transmission tariff. Deseret requests a waiver of the Commission's notice requirements for an effective date of July 1, 2001. Deseret's open access transmission tariff is currently on file with the Commission in Docket No. OA97-487-000. Calpine has been provided a copy of this filing.

Comment date: August 13, 2001, in accordance with Standard Paragraph E at the end of this notice.

14. Consumers Energy Company

[Docket No. ER01-2654-000]

Take notice that on July 23, 2001, Consumers Energy Company (Consumers) tendered for filing a Service Agreement with Williams Energy Marketing & Trading Company, (Customer) under Consumers' FERC Electric Tariff No. 9 for Market Based Sales. Consumers requested that the Agreement be allowed to become effective as of the date of its filing.

Copies of the filing were served upon the Customer and the Michigan Public Service Commission.

Comment date: August 13, 2001, in accordance with Standard Paragraph E at the end of this notice.

15. Maine Public Service Company

[Docket No. ER01-2655-000]

Take notice that on July 23, 2001, Maine Public Service Company (Maine Public) filed an executed Service Agreement for Non-Firm Point-To-Point Transmission Service under Maine Public's open access transmission tariff with Aroostook Valley Electric Company.

Comment date: August 13, 2001, in accordance with Standard Paragraph E at the end of this notice.

16. Credit Suisse First Boston International

[Docket No. ER01-2656-000]

Take notice that on July 23, 2001, Credit Suisse First Boston International (CSFB) petitioned the Commission for acceptance of CSFBI Rate Schedule FERC No. 1; the granting of certain blanket approvals, including the authority to sell electricity at market-based rates; and the waiver of certain Commission regulations.

CSFBI intends to engage in wholesale electric power and energy transactions as a marketer and a broker. CSFBI is not in the business of generating or transmitting electric power. CSFBI is a privately-held corporation formed under the laws of England and Wales. CSFBI's principal place of business is London, England. In transactions where CSFBI sells electric power it proposes to make such sales on rates, terms, and conditions to be mutually agreed to with the purchasing party.

Comment date: August 13, 2001, in accordance with Standard Paragraph E at the end of this notice.

17. New England Power Company

[Docket No. ER01-2657-000]

Take notice that on July 23, 2001, New England Power Company (NEP) submitted for filing a service agreement between NEP and AES Londonderry, L.L.C. (AES) for firm local generation delivery service under NEP's FERC Electric Tariff, Second Revised Volume No. 9, Original Service Agreement No. 204.

Copies of the filing were served upon AES and the New Hampshire Public Utilities Commission.

Comment date: August 13, 2001, in accordance with Standard Paragraph E at the end of this notice.

18. American Electric Power Service Corporation

[Docket No. ER01-2658-000]

Take notice that on July 23, 2001 American Electric Power Service Corporation tendered for filing, on behalf of the operating companies of the American Electric Power System (collectively, AEP), proposed amendments to the AEP Open Access Transmission Tariff. AEP requests an effective date of the later of July 31, 2001, or the commencement date of the pilot program established pursuant to the State of Texas' electricity restructuring statute for such amendments.

Copies of the transmittal letter to AEP's filing have been served upon AEP's transmission customers and copies of the complete filing have been served on the public service commissions of Arkansas, Indiana, Kentucky, Louisiana, Michigan, Ohio, Tennessee, Texas, Virginia and West Virginia and the Oklahoma Corporation Commission.

Comment date: August 13, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-19108 Filed 7-31-01; 8:45 am]

BILLING CODE 6717-01-P